NATIONAL SCIENCE FOUNDATION

Notice of Public Meeting and Request for Stakeholder Input

SUMMARY: The National Science Foundation (NSF) is requesting stakeholder input on Section 7033 of the America COMPETES Act, which authorizes the NSF Director to establish a new program to award grants on a competitive, merit-reviewed basis to Hispanic-serving institutions to enhance the quality of undergraduate science, technology, engineering, and mathematics (STEM) education at such institutions and to increase the retention and graduation rates of students pursuing associate or baccalaureate degrees in STEM.

DATES: The meeting will be held on Sunday, March 1, 2009, from 2 p.m. to 5 p.m. All comments not presented or submitted for the record at the meeting must be received by close of business Monday, March 23, 2009, to be considered.

ADDRESSES: The meeting will be held at the Madison Hotel in Washington, DC, at 1177 15th Street Northwest, Washington, DC 20005. You may submit comments, identified by the title NSF-HSI, using any of the following methods:

E-mail: nsf-hsiinput@lists.nsf.gov. Please include NSF-HSI in the subject line of the message.

Fax: 703-292-9232. Please address the cover sheet to Dr. Fae Korsmo.

Mail: Paper, disk or CD-ROM submissions should be submitted to: Dr. Fae Korsmo, Senior Advisor, Office of the Director, National Science Foundation, 4201 Wilson Boulevard, Suite 1205, Arlington, VA 22230.

All comments received will be posted to a publicly available Web page on http://www.nsf.gov, including any personal information provided.

FOR FURTHER INFORMATION CONTACT: Dr. Fae Korsmo, (703) 292-8002 (phone), (703) 292-9232 (fax), or fkorsmo@nsf.gov.

SUPPLEMENTARY INFORMATION:

Additional Meeting and Comment Procedures

Persons wishing to present oral comments at the March 1, 2009 meeting are requested to pre-register by e-mail to: nsf-hsiinput@lists.nsf.gov. Participants may reserve one 5-minute comment period each. More time may be available, depending on the number of people wishing to make oral comments and the time needed for questions following those comments. Reservations will be confirmed on a first-come, first-served basis. Written comments may also be submitted for the record at the meeting. All other attendees may register at the meeting. All comments not presented or submitted for the record at the meeting must be received by close of business Monday, March 23, 2009, to be considered. All comments and the official transcript of the meeting, when they become available, may be reviewed on the NSF Web page for six months. Participants who require a sign language interpreter or other special accommodations should contact Dr. Korsmo as directed above. A Spanish language interpreter will be present.

Background and Purpose

Section 7033 of the America Competes Act states the following:

(a) In General.—The Director is authorized to establish a new program to award grants on a competitive, merit-reviewed basis to Hispanic-serving institutions (as defined in section 502 of the Higher Education Act of 1965 (20 U.S.C. 1101a)) to enhance the quality of undergraduate science, technology, engineering, and mathematics education at such institutions and to increase the retention and graduation rates of students pursuing associate's or baccalaureate degrees in science, technology, engineering, and mathematics.

(b) Program Components.—Grants awarded under this section shall support—

(1) Activities to improve courses and curriculum in science, technology, engineering, and mathematics;

(2) Faculty development;

(3) Stipends for undergraduate students participating in research; and

(4) Other activities consistent with subsection (a), as determined by the Director.

(c) Instrumentation.—Funding for instrumentation is an allowed use of grants awarded under this section.

NSF is requesting stakeholder input on promising evidence-based practices that have enhanced the quality of undergraduate science, technology, engineering, and mathematics (STEM) education at Hispanic-serving institutions and increased the retention and graduation rates of Hispanic students pursuing associate or baccalaureate degrees in STEM. NSF is interested in learning more about successful partnership activities that have contributed to the increased participation and success of Hispanics in undergraduate STEM education. These might involve partnerships that include two-year and four-year institutions, state and local government organizations, K-12 institutions, private-sector firms, community groups, and other organizations involved in the science and technology enterprise. Research findings and experiential information are especially welcome; NSF would like to learn about strategies that have worked to increase Hispanic retention and graduation rates in STEM, as well as those strategies that have not proven effective.

Implementation Plans

NSF plans to consider the stakeholder input received at the meeting and in the written comments to develop the agency's programmatic response to Section 7033 of the America Competes Act.

Dated: January 27, 2009.
Suzanne H. Plimpton,
Reports Clearance Officer, National Science Foundation.

[FR Doc. E9-2004 Filed 1-29-09; 8:45 am]

BILLING CODE 7555-01-P